DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's intention to request an extension for a currently approved information collection in support of the program for Rural Rental and Cooperative Housing Loan Policies, Procedures, and Authorizations.

DATES: Comments on this notice must be received by April 24, 2000, to be assured of consideration.

FOR FURTHER INFORMATION CONTACT: Tracee L. Lilly, Senior Loan Specialist, RHS, U.S. Department of Agriculture, Stop 0781, Washington, D.C. 20250, Telephone (202) 720-1604.

SUPPLEMENTARY INFORMATION: Title: Rural Rental and Cooperative Housing Loan Policies, Procedures, and Authorizations.

OMB Number: 0575-0047.

Expiration Date of Approval: April 30, 2000.

Type of Request: Extension of a currently approved information collection.

Abstract: The Rural Housing Service (RHS), an agency of the U.S. Department of Agriculture, is authorized to make loans to finance rural rental housing (RRH) and rural cooperative housing (RCH) complexes and related facilities under Sections 515 and 521 of Title V of the Housing Act of 1949, as amended. The RRH and RCH programs provide affordable rental and cooperative housing for elderly or disabled persons and families, and other persons and families of low or moderate income in rural areas.

RHS is responsible for ensuring that these federally funded loans are made to eligible applicants for authorized purposes. The information collected is necessary to determine the eligibility of the applicant and the feasibility of the proposed housing. If not collected, the Agency would be providing unauthorized federal assistance.

Estimate of Burden: Public reporting burden for this collection of information is estimated to average 6 hours per response.

Respondents: Individuals, trusts, associations, partnerships, limited partnerships, State or local public agencies, consumer cooperatives, and profit or nonprofit corporations.

Estimated Number of Respondents: 425.

Estimated Number of Responses per Respondent: 12.

Estimated Total Annual Burden on Respondents: 28,246.

Copies of this information collection can be obtained from Brenda Frost, Regulations and Paperwork Management Branch, at (202) 692-0037.

Comments

Comments are invited on: (a) whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Brenda Frost, Regulations and Paperwork Management Branch, U.S. Department of Agriculture, Rural Development, STOP 0742, 1400 Independence Ave. SW, Washington, DC 20250. All responses to this notice will be summarized and included in the request for OMB approval. All comments will also become a matter of public record.

Dated: February 16, 2000.
James C. Kearney,
Administrator, Rural Housing Service.

[FR Doc. 00-4178 Filed 2-22-00; 8:45 am]

BILLING CODE 3410-XV-U